DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

American Short Line and Regional Railroad Association

[Waiver Petition Docket Number FRA-2009-0078]

In response to the American Short Line and Regional Railroad Association's (ASLRRA) July 16, 2009, petition in this docket, FRA granted certain identified ASLRRA member railroads limited conditional relief from the Federal hours of service law (HSL; 49 U.S.C. chapter 211). Specifically, FRA granted the identified ASLRRA member railroads listed on ASLRRA's “Seconded Amended Exhibit A” in this docket relief from 49 U.S.C. 21103(a)(4)(A). (See FRA letter dated March 5, 2010; document number—0008.1 in docket). Section 21103(a)(4)(A) mandates that train employees have 48- or 72-hour off-duty periods following the initiation of on-duty periods on either 6 or 7 consecutive days.

By a letter dated November 29, 2010, ASLRRA notified FRA of an error in its “Second Amended Exhibit A” upon which FRA based its initial grant of relief. (See document number—0091.1 in docket). Specifically, ASLRRA notified FRA that one ASLRRA member railroad, the Brownsville & Rio Grande International Railroad (BRG), was inadvertently omitted from the amended exhibit. Noting that BRG had properly executed the application agreeing to participate in ASLRRA's petition and proposed pilot project, and had already filed evidence of its employee concurrence with the waiver in the docket as required by FRA's March 5, 2010, letter, ASLRRA requested that FRA add BRG to the list of railroads participating in the waiver. FRA has done so, subject to public comment on BRG's participation in the waiver.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0078) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC, on March 16, 2011.
John G. Leeds, Jr.,
Director, Office of Safety Analysis.

[FR Doc. 2011-6529 Filed 3-18-11; 8:45 am]

BILLING CODE 4910-06-P